DEPARTMENT OF COMMERCE

National Oceanic and Atmospheric Administration

[I.D. 072606H]

North Pacific Fishery Management Council; Public Meeting

AGENCY: National Marine Fisheries Service (NMFS), National Oceanic and Atmospheric Administration (NOAA), Commerce.

ACTION: Notice of a public teleconference.

SUMMARY: The North Pacific Fishery Management Council (NPFMC) will hold a Steller Sea Lion (SSL) teleconference.

DATES: The teleconference will be held on August 25, 2006, from 9 a.m. to 5 p.m.

ADDRESSES: See SUPPLEMENTARY INFORMATION for specific listening sites.

Council address: North Pacific Fishery Management Council, 605 W. 4th Ave., Suite 306, Anchorage, AK 99501-2252.

FOR FURTHER INFORMATION CONTACT: Bill Wilson, North Pacific Fishery Management Council; telephone: (907) 271-2809.

SUPPLEMENTARY INFORMATION: The listening sites are as follows:

1. North Pacific Fishery Management Council, 605 W 4th Avenue, Suite 306, Anchorage, AK;

2. NMFS, 709 W 9th Avenue, Conference Room, 4th Floor, Juneau, AK;

3. Alaska Fishery Science Center, 7600 Sand Point Way, NE, Building 4, Room 2039, Seattle, WA; and

4. NMFS - Kodiak Fisheries Research Center, 301 Trident Way (on Near Island), Kodiak, AK.

The Council's agenda is to review Scientific and Statistical Committee comments on the SSL Recovery Plan and finalize Council comments in time for the September 1, 2006 deadline.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Gail Bendixen at (907) 271-2809, at least 5 working days prior to the meeting date.

Dated: July 27, 2006.
Tracey L. Thompson,
Acting Director, Office of Sustainable Fisheries, National Marine Fisheries Service.

[FR Doc. E6-12295 Filed 7-31-06; 8:45 am]

BILLING CODE 3510-22-S